NUCLEAR REGULATORY COMMISSION

[Docket No. 50-255; NRC-2024-0024]

Holtec Decommissioning International, LLC, and Holtec Palisades, LLC; Palisades Nuclear Plant; License Amendment Application; Withdrawal by Applicant

AGENCY: Nuclear Regulatory Commission.

ACTION: Notice.

SUMMARY: The U.S. Nuclear Regulatory Commission (NRC) has granted the request of Holtec Decommissioning International, LLC (HDI), one of the licensees of the Palisades Nuclear Plant, an indirect wholly owned subsidiary of Holtec International (Holtec), and Holtec Palisades, LLC, to withdraw its application dated September 14, 2022, for a proposed amendment to the Renewed Facility Operating License No. DPR-20. The proposed amendment would have removed the Cyber Security Plan requirements contained in License Condition 2.E.

DATES: January 18, 2024.

ADDRESSES: Please refer to Docket ID NRC-2024-0024 when contacting the NRC about the availability of information regarding this document. You may obtain publicly-available information related to this document using any of the following methods:

• Federal Rulemaking Website: Go to https://www.regulations.gov and search for Docket ID NRC-2024-0024. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Tanya E. Hood, Office of Nuclear Material Safety and Safeguards, U.S. Nuclear Regulatory Commission, Washington, DC 20555-0001; telephone: 301-415-1387; email: Tanya.Hood@nrc.gov.

SUPPLEMENTARY INFORMATION: The NRC has granted the request of Holtec Decommissioning International, LLC and Holtec Palisades, LLC (hereafter collectively referred to as the licensee), to withdraw its September 14, 2022, application (ADAMS Accession No. ML22257A097) for proposed amendment to the Renewed Facility Operating License (RFOL) No. DPR-20 for the Palisades Nuclear Plant (Palisades), located in Covert Township, Van Buren County, Michigan.

The proposed license amendment would have revised the Palisades RFOL to remove the Cyber Security Plan (CSP) requirements contained in License Condition 2.E. This change was requested to support the decommissioning of Palisades. The license amendment proposed to revise the Palisades RFOL to remove the CSP requirements contained in License Condition 2.E. once Palisades spent fuel underwent a sufficient cooling period that would mitigate the risk of heat-up to clad ignition temperature within 10 hours.

The Commission had previously issued a proposed finding that the amendment involves no significant hazards consideration, which was published in the Federal Register on November 29, 2022 (87 FR 73339), and there were no public comments on that finding or hearing requests with respect to the action. However, by letter dated December 12, 2023 (ADAMS Accession No. ML23346A083), the licensee withdrew the proposed amendment.

Dated: January 11, 2024.
For the Nuclear Regulatory Commission.
Amy M. Snyder,
Acting Chief, Reactor Decommissioning Branch, Division of Decommissioning, Uranium Recovery and Waste Programs, Office of Nuclear Material Safety and Safeguards.

[FR Doc. 2024-00821 Filed 1-17-24; 8:45 am]

BILLING CODE 7590-01-P